DEPARTMENT OF ENERGY

Federal Energy Regulatory Commission

[Docket No. CP01-13-000]

Southern Natural Gas Company; Notice of Application

October 20, 2000.

Take notice that on October 17, 2000, Southern Natural Gas Company (Southern), 1900 Fifth Avenue North, Birmingham, Alabama 35203, filed an application pursuant to and in accordance with section 7(c) of the Natural Gas Act (NGA) and Part 157 of the Commission's regulations, requesting a certificate of public convenience and necessity authorizing the reinstatement and the operation of an existing reciprocating engine currently held in standby status at its Albany Compressor Station (Albany C.S.) in Dougherty County, Georgia, all as more fully set forth in the application which is on file with the Commission and open to the public inspection. The application may be viewed on the web at http://www.ferc.us/online/rims.htm (call 202-208-2222 for assistance). Any questions regarding the application should be directed to: John C. Griffin, Senior Counsel, at (205) 325-7133 or Patrick B. Pope, General Counsel, at (205) 325-7126, Southern Natural Gas Company, P.O. Box 2563, Birmingham, Alabama 35202-2563.

Due to increases in South Georgia's peak winter and peak summer load, Southern now seeks to reinstate the 1,232 horsepower reciprocating compressor at the existing Albany C.S. from a standby basis to full time availability. Reinstating the engine will provide Southern the flexibility to use the engine when the peak day loads require such usage. Southern is not proposing any increase in Transportation Demand and it has not signed any new firm transportation agreements for incremental service to support this reinstatement. Southern states that the proposed application will enable Southern to operate South Georgia at more stable pressures. Southern contends that the incremental horsepower at Albany will enhance Southern's operational efficiency, flexibility, and reliability without having an impact on its existing customers. Southern states that due to mainline constraints upstream of Albany, such incremental horsepower will not provide any increase in the firm capacity on South Georgia. Southern requests authorization be granted by November 30, 2000, so that the compressor unit may be in service by December 1, 2000 for the winter heating season.

Southern contends that the costs associated with the reinstatement of the facilities are minor costs needed for compliance with the Commission's noise guidelines, that there is only a de minimis financial or rate impact and that the cost of the facilities are already included in the cost of service. The estimated cost associated with the reinstatement is approximately $139,500.00. In addition, these facilities are maintained as though they are fully operational, so there will be no additional maintenance costs associated with the reinstatement. In addition, there will be no impact on other pipelines or landowners. Southern states that since the proposed project is designed to maintain reliability and improve efficiency and flexibility, that it is consistent with the FERC's Policy Statement issued September 15, 1999 in Docket No. PL99-3-000.

Any person desiring to be heard or to make protest with reference to said application should on or before October 30, 2000, file with the Federal Energy Regulatory Commission, 888 First Street, NE., Washington, DC 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's rules.

A person obtaining intervenor status will be placed on the service list maintained by the Commission and will receive copies of all documents filed by the Applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to jurisdiction conferred upon the Commission by sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Southern to appear or be represented at the hearing.

David P. Boergers,
Secretary.

[FR Doc. 00-27557 Filed 10-25-00; 8:45 am]

BILLING CODE 6717-01-M